DEPARTMENT OF HEALTH AND HUMAN SERVICES

National Institutes of Health

National Cancer Institute; Amended Notice of Meeting

Notice is hereby given of a change in the meeting of the National Cancer Institute Special Emphasis Panel, April 15, 3:00 p.m. to April 16, 2020, 6:00 p.m., Bethesda North Marriott Hotel & Conference Hotel, 5701 Marinelli Road, Rockville, MD 20850 which was published in the Federal Register on February 07, 2020, 85 FR 7317.

This meeting notice is amended to change the meeting location, time, and format. The meeting will be held on April 15, 2020, 11:00 a.m. to April 16, 2020, 7:00 p.m. as a teleconference at National Cancer Institute (NCI) Shady Grove, 9609 Medical Center Drive, Rockville, MD 20850. The meeting is closed to the public.

Dated: March 13, 2020.
Melanie J. Pantoja,
Program Analyst, Office of Federal Advisory Committee Policy.

[FR Doc. 2020-05640 Filed 3-17-20; 8:45 am]

BILLING CODE 4140-01-P